DEPARTMENT OF TRANSPORTATION

Federal Aviation Administration

14 CFR Part 175

[Docket No. FAA-2014-0131]

Notice of Availability of Proposed Advisory Circular for Passenger Notification Hazardous Materials Regulations

AGENCY: Federal Aviation Administration (FAA), DOT.

ACTION: Notice of availability; request for comments.

SUMMARY: In April 2013, the FAA Administrator chartered an Aviation Rulemaking Committee to develop recommendations that would establish an acceptable and effective means for air carriers to notify passengers of hazardous materials regulations. In November 2013, that Aviation Rulemaking Committee published a report containing its recommendations, as well as a proposed Advisory Circular with one or more means for air carriers to comply with passenger notification regulations. The FAA invites public comment on the Aviation Rulemaking Committee's recommended guidance.

DATES: Comments must be received by April 3, 2014.

ADDRESSES: Send comments identified by docket number FAA-2014-0131 using any of the following methods:

• Federal eRulemaking Portal: Go to http://www.regulations.gov and follow the online instructions for sending your comments electronically.

• Mail: Send comments to Docket Operations, M-30; U.S. Department of Transportation (DOT), 1200 New Jersey Avenue SE., Room W12-140, West Building Ground Floor, Washington, DC 20590-0001.

• Hand Delivery or Courier: Take comments to Docket Operations in Room W12-140 of the West Building Ground Floor at 1200 New Jersey Avenue SE., Washington, DC, between 9 a.m. and 5 p.m., Monday through Friday, except Federal holidays.

• Fax: Fax comments to Docket Operations at 202-493-2251.

Privacy: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Docket: Background documents or comments received may be read at http://www.regulations.gov at any time. Follow the online instructions for accessing the docket or go to the Docket Operations in Room W12-140 of the West Building Ground Floor at 1200 New Jersey Avenue SE., Washington, DC, between 9 a.m. and 5 p.m., Monday through Friday, except Federal holidays.

FOR FURTHER INFORMATION CONTACT: Richard Bornhorst or Kenneth Miller, International and Domestic Standards Division, Office of Hazardous Materials Safety, Federal Aviation Administration, 470 L'Enfant Plaza SW., Washington, DC 20024; telephone (202) 385-4906, or (202) 385-4916.

SUPPLEMENTARY INFORMATION:

Background

In April 2013, the FAA Administrator chartered an Aviation Rulemaking Committee (ARC) to develop recommendations that would establish an acceptable and effective means for air carriers to notify passengers of hazardous materials regulations. The ARC's charter can be viewed online at: http://www.faa.gov/regulations_policies/rulemaking/committees/documents/media/PassengerNotificationofHazardousMaterialsRegulations.ARC.Cht.04302013.pdf.

In November 2013, the ARC submitted a report containing its recommendations, as well as an Advisory Circular (AC) proposing one or more means for air carriers to comply with passenger notification requirements under Title 49, Code of Federal Regulations (49 CFR) part 175. The FAA invites public comment on the ARC's recommended guidance, which can be found in the docket.

Comments Invited

As noted in the ARC's report, the ARC was comprised of experts representing air carriers, pilots, flight attendants, the travel industry, as well as the FAA and Pipeline and Hazardous Materials Safety Administration. The ARC now seeks input from the general public and is particularly interested in feedback from entities subject to passenger notification regulations prescribed by U.S. Hazardous Materials (49 CFR 175.25). We note that operators transporting passengers in commerce under 14 CFR parts 135 and 91 are subject to the noted 49 CFR regulation, and it is important that a final AC provide a clear, acceptable, and effective means for these operators to communicate hazardous materials regulations to their passengers.

The ARC will review all comments received and consider them in its final recommendation to the FAA.

Issued in Washington, DC, on February 26, 2014.
Christopher Glasow,
Director, Office of Hazardous Materials Safety.

[FR Doc. 2014-04739 Filed 3-3-14; 8:45 am]

BILLING CODE 4910-13-P